DEPARTMENT OF COMMERCE

International Trade Administration

[A-570-501]

Natural Bristle Paint Brushes and Brush Heads from the People's Republic of China: Final Results of Changed Circumstance Review

AGENCY: Import Administration, International Trade Administration, Department of Commerce

SUMMARY: On June 16, 2010, the Department of Commerce (“Department”) published a notice of initiation and preliminary results of a changed circumstances review with the intent to revoke the antidumping duty order on natural bristle paint brushes and brush heads from the People's Republic of China (“PRC”). In our notice of initiation and preliminary results, we gave interested parties an opportunity to comment; however, none were received. We are now revoking the order based on the fact that domestic parties have expressed a lack of interest in antidumping duty relief from imports of the subject merchandise. Therefore, we will instruct U.S. Customs and Border Protection (“CBP”) to terminate the suspension of liquidation of all unliquidated entries of subject merchandise covered by the scope of the order entered, or withdrawn from warehouse, for consumption on or after the publication date of these final results in the Federal Register.

EFFECTIVE DATE: July 30, 2010.

FOR FURTHER INFORMATION CONTACT: Bob Palmer or Catherine Bertrand, Import Administration, International Trade Administration, U.S. Department of Commerce, 14th Street and Constitution Avenue, NW, Washington DC 20230; telephone (202) 482-9068 and (202) 482-3207, respectively.

SUPPLEMENTARY INFORMATION:

Background

The Department issued its antidumping duty order on natural paint brushes and brush head in March 1986. See Antidumping Duty Order; Natural Bristle Paint Brushes and Brush Heads From the People's Republic of China, 51 FR 5580 (February 14, 1986) and Amended Antidumping Duty Order; Natural Bristle Paint Brushes and Brush Heads From the People's Republic of China, 51 FR 8342 (March 11, 1986) (“Order”). On May 7, 2010, the Department received a request, pursuant to sections 751(d)(1) and 782(h)(2) of the Tariff Act of 1930, as amended (“the Act”), and 19 CFR 351.222(g), to revoke the Order based on an expression of no interest from the Paint Applicators Trade Action Coalition, an ad hoc coalition of producers of the domestic like product, and the Paint Applicator Division of the American Brush Manufacturers Association, a trade association, (collectively the “Paint Applicators”). On June 16, 2010, in response to the request, the Department published the notice of initiation and preliminary results of a changed circumstances review. See Natural Bristle Paint Brushes and Brush Heads From the People's Republic of China: Notice of Initiation and Preliminary Results of Changed Circumstance Review, and Intent To Revoke the Order, 75 FR 34097 (June 16, 2010) (“Initiation and Preliminary Results”). As noted above, we gave interested parties and opportunity to comment on the Initiation and Preliminary Results. We received no comments from interested parties.

Scope of the Order

The merchandise covered by the scope of the Order are natural bristle paintbrushes and brush heads from the PRC. Excluded from the scope of the Order are paint brushes and brush heads with a blend of 40 percent natural bristles and 60 percent synthetic filaments. The merchandise under review is currently classifiable under item 9603.40.40.40 of the Harmonized Tariff Schedule of the United States (“HTSUS”). Although the HTSUS subheading is provided for convenience and customs purposes, the Department's written description of the scope of the merchandise is dispositive.

Final Results of Changed Circumstances Review and Revocation of the Order

Pursuant to sections 751(d)(1) and 782(h)(2) of the Act, the Department may revoke an antidumping duty order after conducting a changed circumstances review under section 751(b) of the Act. Section 751(b)(1) requires a changed circumstances review to be conducted upon the receipt of a request which shows changed circumstances sufficient to warrant a review.

We have determined that the affirmative statement of no interest by the Paint Applicators concerning the Order, along with the fact that no other domestic interested party commented on the Initiation and Preliminary Results, constitutes sufficient support on the part of substantially all domestic producers of like merchandise to warrant revocation of this Order. Therefore, the Department is revoking the Order on natural bristle paint brushes and brush heads from the PRC in accordance with sections 751(d)(1) and 782(h)(2) the Act and 19 CFR 351.216(d) and 351.222(g)(1)(i).

Effective Date of Revocation

In accordance with section 751(d)(3) of the Act, and 19 CFR 351.222(g)(4), the Department will instruct CBP to terminate the suspension of liquidation of all unliquidated entries of natural bristle paint brushes and brush heads from the PRC, entered or withdrawn from warehouse, for consumption on or after the publication of these final results in the Federal Register and to refund any estimated antidumping duties collected on or after the publication of these final results in the Federal Register. The Department will further instruct CBP to refund with interest any estimated duties collected with respect to unliquidated entries of natural bristle paint brushes and brush heads from the PRC, entered or withdrawn from warehouse, for consumption on or after the publication of these final results in the Federal Register, in accordance with section 778 of the Act.

This notice is in accordance with section 777(i)(1) of the Act and 19 CFR 351.216(e) and 351.222(g)(3)(vii).

Dated: July 26, 2010.
Ronald K. Lorentzen,
Deputy Assistant Secretary for Import Administration.

[FR Doc. 2010-18787 Filed 7-29-10; 8:45 am]

BILLING CODE 3510-DS-S